DEPARTMENT OF THE INTERIOR

Bureau of Land Management

[WY-921-1990-ET; WYW 152450]

Notice of Meeting on Proposed Withdrawal; Beck Lake Area; Wyoming

AGENCY: Bureau of Land Management, Interior.

ACTION: Notice of public meeting.

SUMMARY: This notice sets forth the schedule and agenda for a forthcoming meeting for the proposed BLM withdrawal application for the protection of important scenic, open space, and recreational resource values in and around the Beck Lake area near Cody, WY. This meeting will provide the opportunity for public involvement in this proposed action as required by regulation. All comments will be considered when a final determination is made on whether this land should be withdrawn.

DATES: Meeting will be held on Tuesday, March 4, 2003, from 7 p.m. until approximately 8:30 p.m. All comments or requests to be heard should be received by close of business on Friday, February 21, 2003, at the BLM Wyoming State Office, PO Box 1828, 5353 Yellowstone Road, Cheyenne, WY 82003, or at the BLM Cody Field Office, PO Box 518, 1002 Blackburn, Cody, WY 82414.

ADDRESSES: The meeting will be held in the Cody Club Room of the Cody Auditorium, 1240 Beck Avenue, Cody, WY.

FOR FURTHER INFORMATION CONTACT: Janet Booth in Cheyenne at 307-775-6124 or Duane Feick in Cody at 307-578-5917.

SUPPLEMENTARY INFORMATION: The Notice of Proposed Withdrawal for the Beck Lake area which was published in the Federal Register on May 14, 2002 (67 FR 34469), is hereby modified to schedule a public meeting as provided by 43 U.S.C. 1714 and 43 CFR part 2310.

This meeting will be open to all interested persons; those who desire to be heard in person and those who desire to submit written comments on this subject. Please indicate if you want to speak so time can be scheduled. All comments and requests to be heard should be submitted by February 21, 2003, to the BLM Wyoming State Director, Bureau of Land Management, PO Box 1828, 5353 Yellowstone Road, Cheyenne, WY 82003, or to the BLM Cody Field Office Manager, PO Box 518, 1002 Blackburn, Cody, WY 82414.

Dated: January 23, 2003.
Melvin Schlagel,
Realty Officer.

[FR Doc. 03-2000 Filed 1-28-03; 8:45 am]

BILLING CODE 4310-22-P